DEPARTMENT OF THE INTERIOR

Bureau of Land Management

[AK-932-1430-ET; F-025943]

Notice of Public Meeting on Withdrawal Extension

AGENCY: Bureau of Land Management, Department of the Interior.

ACTION: Notice of public meeting.

SUMMARY: As required by 43 CFR 2310.3-1 notice is hereby given that a public meeting will be held regarding the proposed extension of the withdrawal to protect the Fairbanks Command and Data Acquisition Station (also known as the Gilmore Satellite Tracking Station). The station is operated by NOAA's National Satellite Information Services (also known as the National Environmental Satellite, Data, and Information Service). The Bureau of Land Management (BLM) proposes to extend the duration of Public Land Order (PLO) No. 3708, as modified by PLO No. 6709 (54 FR 6919, February 15, 1989) for an additional 20 year period. The lands comprise approximately 8,500 acres and are located in T. 2 N., R. 1 E., and T. 2 N., R. 2 E., Fairbanks Meridian near Fox, Alaska. A complete description can be provided by the BLM Fairbanks District Office at the address below.

DATES: August 8, 2007, 3-5 p.m. Alaska Daylight Time.

Location: BLM Fairbanks District Office, 1150 University Avenue, Fairbanks, Alaska.

FOR FURTHER INFORMATION CONTACT: BLM's Betsy Bonnell at 907-474-2336/e-mail betsy_bonnell@blm.gov or NOAA's Richard Von Wittkamp at 206-526-4400/e-mail richard.vonwittkamp@noaa.gov.

SUPPLEMENTARY INFORMATION: Notice of the proposed withdrawal extension was published in the Federal Register on February 1, 2007 (Volume 72, Number 21). The meeting will be handicap accessible.

Dated: June 29, 2007.
Nichelle W. Jacobson,
Field Manager.

[FR Doc. E7-13087 Filed 7-5-07; 8:45 am]

BILLING CODE 3510-HR-P